DEPARTMENT OF HEALTH AND HUMAN SERVICES

National Institutes of Health

Eunice Kennedy Shriver National Institute of Child Health & Human Development; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute of Child Health and Human Development Special Emphasis Panel; Children with Perinatal HIV in the U.S. Born in Other Countries.

Date: March 6, 2020.

Time: 1:00 p.m. to 3:00 p.m.

Agenda: To review and evaluate grant applications.

Place: NICHD Offices, 6710B Rockledge Drive, Bethesda, MD 20892.

Contact Person: Kimberly Lynette Houston, M.D., Eunice Kennedy Shriver National Institute of Child Health & Human Development, National Institute of Health, Office of Committee Management, 6710B Rockledge Drive, Bethesda, MD 20892, (301) 827-4902, kimberly.houston@nih.gov.

Name of Committee: National Institute of Child Health and Human Development Special Emphasis Panel; Fertility and Infertility Preservation for Patients with Diseases that Previously Precluded Reproduction.

Date: April 15, 2020.

Time: 8:00 a.m. to 5:00 p.m.

Agenda: To review and evaluate grant applications.

Place: Embassy Suites—Chevy Chase Pavilion, 4300 Military Road NW, Washington, DC 20015.

Contact Person: Derek J. Mclean, Ph.D., Scientific Review Officer, Scientific Review Branch, Eunice Kennedy Shriver National Institute of Child Health and Human Development, NIH, 6710B Rockledge Drive, Rm. 2125B, Bethesda, MD 20892-7002, (301) 443-5082, Derek.McLean@nih.gov.

Name of Committee: National Institute of Child Health and Human Development Special Emphasis Panel; IDDRC Review Intellectual and Developmental Disabilities Research Centers 2020.

Date: April 21-22, 2020.

Time: 8:00 a.m. to 5:00 p.m.

Agenda: To review and evaluate grant applications.

Place: Embassy Suites—Chevy Chase Pavilion, 4300 Military Road NW, Washington, DC 20015.

Contact Person: Brad Cooke, Ph.D., Scientific Review Officer, Scientific Review Branch, Eunice Kennedy Shriver National Institute of Child Health and Human Development, 6710B Rockledge Drive, Rm. 2127C, Bethesda, MD 20817, (703) 292-8460, brad.cooke@nih.gov.

Name of Committee: National Institute of Child Health and Human Development Initial Review Group; Contraceptive Clinical Trials Network (CCTN) Male Sites.

Date: May 29, 2020.

Time: 1:00 p.m. to 5:00 p.m.

Agenda: To review and evaluate contract proposals.

Place: NICHD Offices, 6710B Rockledge Drive, Bethesda, MD 20892 (Telephone Conference Call).

Contact Person: Steven D. Silverman, Eunice Kennedy Shriver National Institute of Child Health & Human Development, National Institute of Health, Office of Committee Management, 6710B Rockledge Drive, Bethesda, MD 20892, (301) 435-8386, steven.silverman@nih.gov.

(Catalogue of Federal Domestic Assistance Program Nos. 93.864, Population Research; 93.865, Research for Mothers and Children; 93.929, Center for Medical Rehabilitation Research; 93.209, Contraception and Infertility Loan Repayment Program, National Institutes of Health, HHS)

Dated: February 20, 2020.
Miguelina Perez,
Program Analyst, Office of Federal Advisory Committee Policy.

[FR Doc. 2020-03714 Filed 2-24-20; 8:45 am]

BILLING CODE 4140-01-P